DEPARTMENT OF HOUSING AND URBAN DEVELOPMENT

[Docket No. FR-4978-N-04]

Notice of Proposed Information Collection for Public; Comment; Capital Fund

AGENCY: Office of the Assistant Secretary for Public and Indian Housing, HUD.

ACTION: Notice.

SUMMARY: HUD will submit the proposal for collection of information described below to the Office of Management and Budget (OMB) for review, as required by the Paperwork Reduction Act. The Department will request this previously approved information collection be extended, and is soliciting public comments on the subject proposal.

DATES: Comments Due Date: June 24, 2005.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will request an extension of and submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Capital Fund Program.

OMB Control Number: 2577-XXXX (new approval number).

Description of the need for the information and proposed use: Public Housing Agencies (PHAs) must provide information to HUD various stages of implementing Capital Fund grant. This grant is used for modernization of existing public housing stock and development of new units, which requires contract administration and construction contracting.

Agency form numbers, if applicable: HUD-50070, HUD-50071, HUD-5084, HUD-51915, HUD-51915-A, Consolidated Public Housing Certification of Completion, HUD-5378, HUD-51971-I-II, HUD-52482, HUD-52483-A, HUD-52485, HUD-52651-A, HUD-52427, HUD-52484, HUD-52396, HUD-5372, HUD-51000, HUD-51001, HUD-51002, HUD-51003, HUD-51004, HUD-5460, Procedure for Obtaining Certificates of Insurance for Capital Program Projects, HUD-52860, HUD-52850, HUD-5369, HUD-5369A, HUD-5369B, HUD-5369C, HUD-5370, HUD-5370C, HUD-52832, HUD-52833, HUD-52834, HUD-52835, HUD-52836, HUD-52837, HUD-52838, HUD-52842, HUD-50080-COMP, HUD-53001, HUD-53015, CFFP Sample Model Term Sheet, CFFP Sample Model Debt Service Schedule, CFFP Sample Model Effective Cost of Financing, Sample Model Housing Authority—Monthly Debt Service Detail, CFFP Sample Model List of Participating PHAs.

Members of affected public: Business or other for-profit, State, Local Government.

Estimation of the total number of hours needed to prepare the information collection including number of respondents, frequency of response, and hours of response:

Frequency of Submission: Annually.

HUD form No. | No. of respondents | Frequency of response | Estimated hours of preparation | Total annual burden hours
HUD-50070 | 1,500 | 1 | 0.5 | 750
HUD-50071 | 1,500 | 1 | 0.5 | 750
HUD-5084 | 3,100 | 1 | 1.5 | 4,650
HUD-51915 | 3,100 | 1 | 3.0 | 9,300
HUD-51915-A | 3,100 | 1 | 3.0 | 9,300
Consolidated Public Housing Certificate of Completion | 3,100 | 1 | 1.0 | 3,100
HUD-5378 | 3,100 | 1 | 0.1 | 310
HUD-51971-I-II | 3,100 | 1 | 1.0 | 3,100
HUD-52482 | 3,100 | 1 | 2.0 | 6,200
HUD-52483-A | 3,100 | 1 | 2.0 | 6,200
HUD-52485 | 3,100 | 1 | 2.0 | 6,200
HUD-52651-A | 3,100 | 1 | 2.0 | 6,200
HUD-52427 | 3,100 | 1 | 0.5 | 1,550
HUD-52484 | 3,100 | 1 | 10.0 | 31,000
HUD-52396 | 3,100 | 1 | 2.0 | 6,200
HUD-5372 | 3,100 | 1 | 1.0 | 3,100
HUD-51000 | 3,100 | 1 | 1.0 | 3,100
HUD-51001 | 3,100 | 1 | 3.5 | 10,850
HUD-51002 | 3,100 | 1 | 1.0 | 3,100
HUD-51003 | 3,100 | 1 | 1.5 | 4,650
HUD-51004 | 3,100 | 1 | 2.5 | 7,750
HUD-5460 | 3,100 | 1 | 1.0 | 3,100
Procedure for Obtaining Certificates of Insurance for Capital Program Projects | 3,100 | 1 | 0.5 | 1,550
HUD-52860 | 3,100 | 1 | 16.0 | 49,600
HUD-52850 | 3,100 | 1 | 1.0 | 3,100
HUD-5369 | 3,100 | 1 | 0.5 | 1,550
HUD-5369A | 3,100 | 1 | 0.5 | 1,550
HUD-5369B | 3,100 | 1 | 0.5 | 1,550
HUD-5369C | 3,100 | 1 | 0.5 | 1,550
HUD-5370 | 3,100 | 1 | 1.0 | 3,100
HUD-5370C | 3,100 | 1 | 0.5 | 1,550
HUD-52832 | 3,100 | 1 | 252.0 | 781,200
HUD-52833 | 3,100 | 1 | 110.0 | 341,000
HUD-52834 | 3,100 | 1 | 40.0 | 124,000
HUD-52835 | 3,100 | 1 | .1 | 310
HUD-52836 | 3,100 | 1 | .1 | 310
HUD-52837 | 3,100 | 1 | 75.0 | 232,500
HUD-52842 | 3,100 | 1 | 5.0 | 15,500
HUD-50080-COMP | 3,100 | 1 | .15 | 465
HUD-53001 | 3,100 | 1 | 5.0 | 15,500
HUD-53015 | 3,100 | 1 | 1.0 | 3,100
NEW—CFFP Sample Model Term Sheet | 2,000 | 1 | 8.0 | 16,000
NEW—CFFP Sample Model Debt Service Schedule | 2,000 | 1 | 3.0 | 6,000
NEW—CFFP Sample Model Effective Cost of Financing | 2,000 | 1 | 3.0 | 6,000
NEW—CFFP Sample Model HA-Monthly Debt Service Detail | 2,000 | 1 | 3.0 | 6,000
NEW—Sample Model List of Participating PHAs | 2,000 | 1 | 3.0 | 6,000
Total No. of Respondents | 133,900
Total Hrs. |  |  |  | 1,749,445

Status of the proposed information collection: Consolidation of currently approved and new collections to incorporate OMB information collections.

Authority: Section 3506 of the Paperwork Reduction Act of 1995, 44 U.S.C. Chapter 35, as amended.

Dated: April 14, 2005.
Michael Liu,
Assistant Secretary for Public and Indian Housing.

[FR Doc. E5-1924 Filed 4-22-05; 8:45 am]

BILLING CODE 4210-27-P